DEPARTMENT OF COMMERCE

International Trade Administration

Wichita State University, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR Part 301). Related records can be viewed between 8:30 a.m. and 5 p.m. in Room 3720, U.S. Department of Commerce, 14th and Constitution Ave., NW., Washington, DC 20230.

Comments: None received. Decision: Approved. Reasons: We know of no instruments of equivalent scientific value to the foreign instruments described below, for the intended purposes, that were being manufactured in the United States at the time of their order.

Docket Number: 11-013. Applicant: Wichita State University, 1845 Fairmont Street, Wichita, KS 67260. Instrument: Field emission scanning electron microscope. Manufacturer: Carl Zeiss SMT, Germany. Intended Use: See application notice at 76 FR 34207, June 13, 2011.

Docket Number: 11-029. Applicant: University of California, Santa Barbara, CA 93106. Instrument: Josephson Junction Deposition System (Electron Beam Evaporation Unit with Load Lock Model MEB 550S). Manufacturer: Plassys Bestek SAS, France. Intended Use: See application notice at 76 FR 34207, June 13, 2011.

Dated: July 12, 2011.
Gregory W. Campbell,
Director, Subsidies Enforcement Office, Office of Policy, Import Administration.

[FR Doc. 2011-18296 Filed 7-19-11; 8:45 am]

BILLING CODE 3510-DS-P